DEPARTMENT OF TRANSPORTATION

Federal Aviation Administration

Notice of Intent To Rule on Application 01-02-C-00-CKB To Impose and Use the Revenue From a Passenger Facility Charge (PFC) at Benedum Airport, Clarksburg, West Virginia

AGENCY: Federal Aviation Administration (FAA), DOT.

ACTION: Notice of intent to rule on application.

SUMMARY: The FAA proposes to rule and invites public comment on the application to impose and use the revenue from a PFC at Benedum Airport under the provisions of the Aviation Safety and Capacity Expansion Act of 1990 (Title IX of the Omnibus Budget Reconciliation Act of 1990) (Pub. L. 101-508) and part 158 of the Federal Aviation Regulations (14 CFR part 158).

DATES: Comments must be received on or before December 22, 2000.

ADDRESSES: Comments on this application may be mailed or delivered in triplicate to the FAA at the following address: Beckley Airports Field Office, 176 Airport Circle, Room 101, Beaver, West Virginia 25813.

In addition, one copy of any comments submitted to the FAA must be mailed or delivered to Mr. James R. Griffith, Airport Manager of the Benedum Airport Authority at the following address: 2000 Aviation Way, Bridgeport, West Virginia 26330.

Air carriers and foreign air carriers may submit copies of written comments previously provided to the Benedum Airport Authority under § 158.23 of part 158.

FOR FURTHER INFORMATION CONTACT: Mr. Larry Clark, Manager, Airports Field Office, 176 Airport Circle, Room 101, Beaver, WV, at (304) 252-6216. The application may be reviewed in person at this same location.

SUPPLEMENTARY INFORMATION: The FAA proposes to rule and invites public comment on the application to impose and use the revenue from a PFC at Benedum Airport under the provisions of the Aviation Safety and Capacity Expansion Act of 1990 (Title IX of the Omnibus Budget Reconciliation Act of 1990) (Pub. L. 101-508) and part 158 of the Federal Aviation Regulations (14 CFR part 158).

On November 13, 2000, the FAA determined that the application to impose and use the revenue from a PFC submitted by Benedum Airport Authority was substantially complete within the requirements of § 158.25 of part 158. The FAA will approve or disapprove the application, in whole or in part, no later than February 10, 2001.

The following is a brief overview of the application.

PFC Application No.: 01-02-C-00-CKB.

Level of the proposed PFC: $4.50.

Proposed charge effective date: April 1, 2001.

Proposed charge expiration date: February 2003.

Total estimated PFC revenue: $162,334.

Brief description of proposed project(s):

1. Rehabilitate Terminal/FBO Ramp and Taxiway Radius Widening

2. Perimeter Fencing

3. FOD Removal Equipment

4. Snow Removal Equipment (SRE)

5. Master Plan Update

6. Communications System

7. Rehabilitate Taxiways A, B, C, D, & E

Class or classes of air carriers which the public agency has requested not be required to collect PFCs: N/A.

Any person may inspect the application in person at the FAA office listed above under FOR FURTHER INFORMATION CONTACT and at the FAA regional airports office located at: Airports Division, AEA-610, 159-30 Rockaway Boulevard, Jamaica, New York, 11434-4848.

In addition, any person may, upon request, inspect the application, notice and other documents germane to the application in person at the Benedum Airport Authority.

Issued in Beaver, West Virginia, on November 15, 2000.
Larry F. Clark,
Manager, Beaver, West Virginia, Eastern Region.

[FR Doc. 00-29914 Filed 11-21-00; 8:45 am]

BILLING CODE 4910-13-M